DEPARTMENT OF HEALTH AND HUMAN SERVICES

Administration for Children and Families

Proposed Information Collection Activity; Comment Request

Proposed Projects

Title: Form OCSE-396-A, Child Support Enforcement Program Expenditure Report.

Form OCSE-34-A, Child Support Enforcement Program Collection Report.

OMB No.: 0970-0181.

Note: This comment request republishes a similar request dated Dec 5, 2012.

Description: Form OCSE-396-A and Form OCSE-34-A are financial reports submitted following the end of each fiscal quarter by grantees with an approved plan under title IV-D of the Social Security Act to administer the Child Support Enforcement Program. The purpose of these forms is to enable grantees to meet their statutory and regulatory requirement to report program expenditures and child support collections, respectively, from the previous fiscal quarter.

States use Form OCSE-396-A to report quarterly expenditures made in the previous quarter and to estimate program expenditures to be made and the incentive payments to be earned in the upcoming quarter. The Administration for Children and Families provides Federal funding to States for the Child Support Enforcement Program at the rate of 66 percent for all allowable and legitimate administrative costs of this program.

Tribes use OMB Form SF-425 to report quarterly expenditures made in the previous quarter. Form SF-425 is not included as part of this comment request.

States and Tribes use Form OCSE-34-A to report child support collection activity during the previous quarter, including collections received, the distribution and disbursement of collections and any collections remaining undistributed.

States and Tribes have used different and separate versions of Form OCSE-34-A to report child support collection activity. As part of this comment request, we are proposing that these separate reports be combined into a single document to be submitted quarterly by both States and Tribes.

The information collected in these reports is used by this agency to calculate quarterly Federal grant awards and incentive payments to States, to enable oversight of the financial management of the program for both States and Tribes and may be included in statistical and financial reports available to the public.

Respondents: States (including Puerto Rico, Guam, the Virgin Islands and the District of Columbia) and Tribes with approved title IV-D plans.

Annual Burden Estimates
Instrument | Number of respondents | Number of responses per respondent | Average burden hours per response | Total burden hours
OCSE-396A | 54 | 4 | 6 | 1,296
OCSE-34A | 112 | 4 | 14 | 6,272

Estimated Total Annual Burden Hours: 7,568.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-01876 Filed 1-29-14; 8:45 am]

BILLING CODE 4184-01-P